SMALL BUSINESS ADMINISTRATION

Small Business Size Standards: Waiver of the Nonmanufacturer Rule

AGENCY: U.S. Small Business Administration.

ACTION: Notice of Waiver to the Nonmanufacturer Rule for Configured Tape Library Storage Equipment.

SUMMARY: The U.S. Small Business Administration (SBA) is granting a class waiver of the Nonmanufacturer Rule for Configured Tape Library Storage Equipment, Product Service Code (PSC) 7025 Automated Data Processing (ADP) Input/Output and Storage Devices, PSC 7035 ADP Support Equipment, and PSC 7045 ADP Supplies, under the North American Industry Classification System (NAICS) code 334112 (Computer Storage Device Manufacturing). The basis for waiver is that no small business manufacturers are supplying these classes of products to the Federal government. The effect of this waiver will be to allow otherwise qualified small businesses to supply the products of any manufacturer on a Federal contract set aside for small businesses, Service-Disabled Veteran-Owned (SDVO) small businesses or Participants in SBA's 8(a) Business Development (BD) Program.

DATES: This waiver is effective August 4, 2010.

FOR FURTHER INFORMATI0N CONTACT: Ms. Edith Butler, Procurement Analyst, by telephone at (202) 619-0422; by FAX at (202) 481-1788; or by e-mail at Edith.Butler@sba.gov.

SUPPLEMENTARY INFORMATION: Section 8(a)(17) of the Small Business Act (Act), 15 U.S.C. 637(a)(17), and SBA's implementing regulations require that recipients of Federal supply contracts set aside for small businesses, SDVO small businesses, or Participants in the SBA's 8(a) BD Program provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 121.1202(c). The SBA defines “class of products” based on the Office of Management and Budget's NAICS. In addition, SBA uses PSCs to further identify particular products within the NAICS code to which a waiver would apply. The SBA may then identify a specific item within a PSC and NAICS to which a class waiver would apply.

On June 7, 2010, SBA published in the Federal Register a notice of intent to waive the Nonmanufacturer Rule for Configured Tape Library Storage Equipment, PSC 7025 (ADP Input/Output and Storage Devices), PSC 7035 (ADP Support Equipment), and PSC 7045 (ADP Supplies), under NAICS code 334112 (Computer Storage Device Manufacturing).

SBA explained in the notice that it was soliciting comments and sources of small business manufacturers of these classes of products. No comments were received in response to this notice. SBA has determined that there are no small business manufacturers of these classes of products, and is therefore granting the waiver of the Nonmanufacturer Rule for Configured Tape Library Storage Equipment, PSC 7025 (ADP Input/Output and Storage Devices), PSC 7035 (ADP Support Equipment), and PSC 7045 (ADP Supplies), under NAICS code 334112 (Computer Storage Device Manufacturing).

Authority: 15 U.S.C. 637(a)(17).

Karen Hontz,
Director, Office of Government Contracting.

[FR Doc. 2010-17705 Filed 7-19-10; 8:45 am]

BILLING CODE 8025-01-P